NATIONAL SCIENCE FOUNDATION

National Science Board; Sunshine Act Meetings; Notice

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

AGENCY HOLDING MEETING: National Science Board.

DATE AND TIME: May 9, 2011 at 8 a.m. through 6:15 p.m.

PLACE: National Science Foundation, 4201 Wilson Blvd., Room 1235, Arlington, VA 22230. All visitors must report to the NSF visitor desk at the 9th and N. Stuart Streets entrance to receive a visitor's badge. Public visitors must arrange for a visitor's badge in advance. Call 703-292-7000 or e-mail NationalScienceBrd@nsf.gov and leave your name and place of business to request your badge, which will be ready for pick-up at the visitor's desk on the day of the meeting.

STATUS: Some portions open, some portions closed.

UPDATES: Please refer to the National Science Board Web site http://www.nsf.gov/nsb for additional information and schedule updates (time, place, subject matter or status of meeting) may be found at http://www.nsf.gov/nsb/notices/.

AGENCY CONTACT: Jennie L. Moehlmann, jmoehlma@nsf.gov, (703) 292-7000.

PUBLIC AFFAIRS CONTACT: Dana Topousis, dtopousi@nsf.gov, (703) 292-7750.

Open Sessions

8 a.m.-11:30 a.m.

2:15 p.m.-4:30 p.m.

Closed Sessions

12:30 p.m.-2 p.m.

4:30 p.m.-6:15 p.m.

Matters To Be Discussed

May 9, 2011

CSB Subcommittee on Facilities (SCF)

Open Session: 8 a.m.-11:30 a.m.

• Chairman's Remarks

• Approval of Minutes

• Best Practices Update

• Annual Portfolio Review Discussion

• Progress on Mid-Scale Information

SCF Closed Session 12:30 p.m.-2 p.m.

• Future MREFC Projects

Committee on Programs and Plans (CPP)

Open Session 2:15 p.m.-4:30 p.m.

• Chairman's Remarks

• Approval of Minutes

• Discussion Item: CPP Program Portfolio Reviews

• Discussion Item: Recompetition Policy Discussion

• Information Item: Status Deep Underground Science and Engineering Laboratory

• Information Item: High Performance Computing Acquisition

• Information Item: DataNet Program

• Information Item: LIGO Science Results

CPP Closed Session 4:30 p.m.-6:15 p.m.

• Chairman's Remarks

• Approval of Minutes

• Information Item: EPSCoR Research Infrastructure Improvement

• Action Item: Support for IRIS

• Action Item: Support for NSCL

• Action Item: Support for OCI project

Meeting Adjourns 6:15 p.m.

Ann Ferrante,
National Science Board Office.

[FR Doc. 2011-10845 Filed 4-29-11; 4:15 pm]

BILLING CODE 7555-01-P